DEPARTMENT OF EDUCATION

[Docket No. ED-2014-ICCD-0060]

Agency Information Collection Activities; Comment Request; Measures and Methods for the National Reporting System for Adult Education

AGENCY: Office of Career, Technical and Adult Education (OCTAE), Department of Education (ED).

ACTION: Notice.

SUMMARY: In accordance with the Paperwork Reduction Act of 1995 (44 U.S.C. chapter 3501 et seq.), ED is proposing an extension of an existing information collection.

DATES: Interested persons are invited to submit comments on or before June 16, 2014.

ADDRESSES: Comments submitted in response to this notice should be submitted electronically through the Federal eRulemaking Portal at http://www.regulations.gov by selecting Docket ID number ED-2014-ICCD-0060 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E105, Washington, DC 20202.

FOR FURTHER INFORMATION CONTACT: For specific questions related to collection activities, please contact Michelle Meier, (202) 245-7890.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Measures and Methods for the National Reporting System for Adult Education.

OMB Control Number: 1830-0027.

Type of Review: An extension of an existing information collection.

Respondents/Affected Public: State, Local and Tribal Governments.

Total Estimated Number of Annual Responses: 5,700.

Total Estimated Number of Annual Burden Hours:

Abstract: Title II of the Workforce Investment Act (WIA—Pub. L. 105-220), entitled the Adult Education and Family Literacy Act (AEFLA), creates a partnership among the Federal government, States, and localities to provide, on a voluntary basis, adult education and literacy services. Section 212 of Title II requires that a comprehensive performance accountability system be established to assess the effectiveness of eligible agencies in achieving continuous improvement of adult education and literacy activities in order to optimize the return on the Federal investment. The accountability system must include the following measures of performance. These measures are referred to in AEFLA as “core indicators are: Demonstrated improvements in adult learners' literacy skill levels; placement in, retention in, or completion of postsecondary education, training, unsubsidized employment or career advancement; and receipt of a secondary school diploma or its recognized equivalent. States submit 10 required tables, 6 optional tables, 4 financial reports, 1 narrative report, and 1 data quality checklist.

Dated: April 14, 2014.
Stephanie Valentine,
Acting Director, Information Collection Clearance Division, Privacy, Information and Records Management Services, Office of Management.

[FR Doc. 2014-08716 Filed 4-16-14; 8:45 am]

BILLING CODE 4000-01-P